DEPARTMENT OF COMMERCE

International Trade Administration

Environmental Technologies Trade Advisory Committee, Request for Nominations

AGENCY: International Trade Administration, Department of Commerce.

ACTION: Solicitation of Nominations for Membership on the Environmental Technologies Trade Advisory Committee (ETTAC).

SUMMARY: The Department of Commerce, International Trade Administration (ITA) is requesting nominations for memberships on the Environmental Technologies Trade Advisory Committee (ETTAC). The ETTAC was established under the Federal Advisory Committee Act, 5 U.S.C. App., and pursuant to Section 2313(c) of the Export Enhancement Act of 1988, as amended, 15 U.S.C. 4728(c). ETTAC was first chartered on May 31, 1994. ETTAC advises the Environmental Trade Working Group (ETWG) of the Trade Promotion Coordinating Committee (TPCC), through the Secretary of Commerce in his capacity as Chairman of the TPCC. ETTAC advises on the development and administration of programs to expand U.S. exports of environmental technologies, goods, and services and products that comply with United States environmental, safety, and related requirements. The Department of Commerce anticipates rechartering ETTAC for a new two-year term in October 2012, and is seeking nominations for membership on the ETTAC for the new charter term.

DATES: All applications for immediate consideration for appointment must be received on or before midnight EDT on September 21, 2012. After that date, ITA will continue to accept applications under this notice for a period of up to two years from the deadline to fill any vacancies that may arise.

ADDRESSES: Please send nominations by post, email, or fax to the attention of Todd DeLelle, Office of Energy & Environmental Industries, International Trade Administration, U.S. Department of Commerce, 1401 Constitution Ave. NW., Room 4053, Washington, DC 20230; phone 202-482-4877; email todd.delelle@trade.gov; fax 202-482-5665.

FOR FURTHER INFORMATION CONTACT: Todd DeLelle, Office of Energy & Environmental Industries, International Trade Administration, U.S. Department of Commerce, 1401 Constitution Ave. NW., Room 4053, Washington, DC 20230; phone 202-482-4877; email todd.delelle@trade.gov; fax 202-482-5665.

SUPPLEMENTARY INFORMATION: The Secretary of Commerce invites nominations to ETTAC for appointments for a two-year term beginning in the fall of 2012. The ETTAC was most recently rechartered on October 25, 2010, and the ETTAC's new charter term is anticipated to begin in fall 2012. Members will be selected in accordance with applicable Department of Commerce Guidelines based upon their ability to advise the Secretary of Commerce on the development and administration of programs to expand U.S. exports of environmental technologies, goods, and services and products that comply with United States environmental, safety, and related requirements, as articulated in ETTAC's Charter, which is available on the Internet at http://www.environment.ita.doc.gov under the tab: Advisory Committee. The ETTAC shall advise on matters including: trade policy development and negotiations relating to U.S. environmental technologies exports; the effect of U.S. Government policies, regulations and programs, and foreign government policies' and practices on the export of U.S. environmental products, technologies, and services; the competitiveness of U.S. industry and its ability to compete for environmental technologies, products and services opportunities in international markets; the identification of priority environmental technologies, products and service markets with high immediate returns for U.S. exports; strategies to increase private sector awareness and effective use of U.S. Government export promotion programs; the development of complementary industry and trade association export promotion programs; and the development of U.S. Government programs to encourage producers of environmental technologies, products and services to enter new foreign markets.

The Secretary of Commerce will appoint up to 35 members to the ETTAC. The members shall be selected in a manner that ensures that the ETTAC is balanced in terms of product and service lines and reflects the diversity of this sector, including in terms of geographic location and company size. Members of the ETTAC shall be drawn from U.S. environmental technologies manufacturing and services companies, U.S. trade associations, and U.S. private sector organizations involved in the promotion of environmental technologies, products, and services. The ETTAC shall include at least one individual representing each of the following:

1. Environmental businesses, including small businesses;

2. Trade associations in the environmental sector;

3. Private sector organizations involved in the promotion of environmental exports, including products that comply with U.S. environmental, safety, and related requirements;

4. States (as defined in 15 U.S.C. 4721(j)(5)) and associations representing the States; and

5. Other appropriate interested members of the public, including labor representatives.

Candidates should be senior executive-level representatives from U.S. environmental technology companies, trade associations, and non-profit organizations. Applicants must have experience in exporting environmental technologies products and services; ITA particularly seeks applicants with experience in one or more of the following sectors:

(1) Air pollution control and monitoring technologies;

(2) Analytic devices and services;

(3) Environmental engineering and consulting services;

(4) Financial services relevant to the environmental sector;

(5) Process and pollution prevention technologies;

(6) Solid and hazardous waste management technologies; and

(7) Water and wastewater treatment technologies.

Members serve in a representative capacity, expressing the views and interests of a U.S. company or organization as well as its particular sector; they are, therefore, not Special Government Employees. For purposes of ETTAC eligibility, a U.S. company is defined as a firm incorporated in the United States (or an unincorporated firm with its principal place of business in the United States) that is at least 51 percent owned and controlled by U.S. persons. For purposes of ETTAC eligibility, a U.S. organization is defined as an organization established in the United States that is controlled by U.S. persons, as determined based on its board of directors (or comparable governing body), membership, and funding sources, as applicable.

All members must be U.S. citizens. Federally registered lobbyists are not eligible for appointment, nor are individuals registered as a foreign agent under the Foreign Agents Registration Act.

ETTAC members are not be compensated for their services or reimbursed for their travel expenses. The ETTAC shall, to the extent practicable, meet approximately three times a year. Most ETTAC meetings are held in Washington, DC.

All appointments are made without regard to political affiliation. Members shall serve at the pleasure of the Secretary for a two year term. Self-nominations will be accepted. If you are interested in being nominated to become a member of ETTAC, please provide the following information (2 pages maximum):

(1) Name;

(2) Title;

(3) Work phone, fax, and email address;

(4) A sponsor letter from the applicant on his or her entity's letterhead or, if the applicant is to represent an entity other than his or her employer, a letter from the entity to be represented, containing a brief statement of why the applicant should be considered for membership on the ETTAC. This letter should include the name and address of entity to be represented by the applicant, including Web site address, and address the applicant's experience in exporting environmental technologies products and services;

(5) Short biography of nominee, including information demonstrating knowledge and experience relevant to the work of the ETTAC;

(6) Brief description of the entity to be represented, including, as applicable, its business activities, company size (number of employees and annual sales), and export markets served; and

(7) An affirmative statement that:

(a) The applicant is a U.S. citizen;

(b) The applicant is not a federally-registered lobbyist, and that the applicant understands that if appointed, the applicant will not be allowed to continue to serve as an ETTAC member if the applicant becomes a federally-registered lobbyist;

(c) The applicant is not required to register as a foreign agent under the Foreign Agents Registration Act of 1938, as amended;

(d) The applicant meets all ETTAC eligibility requirements, including that the applicant represents a U.S. company or U.S. organization.

Please do not send company or trade association brochures or any other information.

Nominees selected to serve on the ETTAC will be notified.

Edward A. O'Malley,
Director, Office of Energy and Environmental Industries.

[FR Doc. 2012-20773 Filed 8-22-12; 8:45 am]

BILLING CODE 3510-DR-P